NUCLEAR REGULATORY COMMISSION

[Docket No.: 72-25]

Foster Wheeler Environmental Corporation's Proposed Idaho Spent Fuel Facility; Notice of Availability of Draft Environmental Impact Statement

ACTION: Notice of availability of draft environmental impact statement.

SUMMARY: Notice is hereby given that the U.S. Nuclear Regulatory Commission (NRC) is issuing a Draft Environmental Impact Statement (DEIS) for the Foster Wheeler Environmental Corporation (FWENC) license application dated November 19, 2001, and docketed on June 27, 2002, (67 FR 43358) for the receipt, transfer, and storage of spent nuclear fuel (SNF) at it's proposed Idaho Spent Fuel Facility to be located at the U.S. Department of Energy's (DOE's) Idaho National Engineering and Environmental Laboratory (INEEL) site in Butte County, Idaho.

The DEIS discusses the purpose and need for the proposed facility and reasonable alternatives to the proposed action, including the no-action alternative. The DEIS also discusses the environment potentially affected by the proposed facility, presents and compares the potential environmental impacts resulting from the proposed action and its alternatives, and identifies mitigation measures that could eliminate or lessen the potential environmental impacts.

The DEIS is being issued as part of the NRC's decision-making process on whether to issue a license to FWENC. Based on the preliminary evaluation in the DEIS, the NRC environmental review staff have concluded that the proposed action will have small effects on the public and existing environment. The DEIS is a preliminary analysis of the environmental impacts of the proposed action and its alternatives. The Final EIS and any decision documentation regarding the proposed action will not be issued until public comments on the DEIS have been received and evaluated. Notice of the availability of the Final EIS will be published in the Federal Register.

At this time, the NRC is soliciting public comments on the DEIS. Due to limited interest during the “Scoping” phase of the DEIS preparation, the NRC staff has elected not to hold a public meeting on the DEIS. However, the DEIS is still being offered for public review and comment in accordance with applicable NRC regulations, including requirements in 10 CFR parts 51.73, 51.74 and 51.117. Any interested person may submit written comments on the DEIS for consideration by the NRC staff. Please see the DATES and ADDRESSES sections of this notice for directions on when and how to submit comments.

DATES: The public comment period begins with publication of this notice of availability in the Federal Register and continues until August 18, 2003. Written comments submitted by mail should be postmarked by that date to ensure consideration. Comments mailed after that date will be considered to the extent practical. Comments will also be accepted by electronic or facsimile submission.

ADDRESSES: Members of the public are invited and encouraged to submit comments to the Chief, Rules Review and Directives Branch, Mail Stop T6-D59, U.S. Nuclear Regulatory Commission, Washington, DC 20555-0001. Please note Docket No. 72-25 when submitting comments. Due to the current mail situation in the Washington, DC area, it is encouraged that comments be sent electronically to isffacility@nrc.gov or by facsimile to (301) 415-5398, Attn: Matt Blevins.

FOR FURTHER INFORMATION CONTACT: For environmental review questions, please contact Matthew Blevins at (301) 415-7684. For questions related to the safety review or overall licensing of the Idaho Spent Fuel Facility, please contact James Randall Hall at (301) 415-1336.

Information and documents associated with the Idaho Spent Fuel Facility project, including the Environmental Report and the License Application, submitted on November 19, 2001, may be obtained from the Internet on NRC's Idaho Spent Fuel Facility Web page: http://www.nrc.gov/waste/spent-fuel-storage.html (case sensitive). In addition, all documents, including the DEIS, are available for public review through our electronic reading room: http://www.nrc.gov/reading-rm.html. Any comments of Federal, State, and local agencies, Indian tribes or other interested persons will be made available for public inspection when received. Documents may also be obtained from NRC's Public Document Room located at U.S. Nuclear Regulatory Commission Headquarters, 11555 Rockville Pike (first floor), Rockville, Maryland. For those without access to the Internet, paper copies of any electronic documents may be obtained for a fee by contacting the NRC's Public Document Room at 1-800-397-4209.

SUPPLEMENTARY INFORMATION: A Settlement Agreement dated October 17, 1995, among the DOE, the U.S. Navy, and the State of Idaho requires, among other things, the transfer and dry storage of SNF until it can be removed from Idaho. As part of it's efforts to meet the Settlement Agreement, the DOE has contracted with FWENC to design, license, construct, and operate the proposed Idaho Spent Fuel Facility for portions of the SNF currently in storage at the INEEL. If approved, FWENC will be issued an NRC license, under the provisions of 10 CFR part 72, to receive, transfer, and store SNF. The proposed facility would store SNF and associated radioactive material from the Peach Bottom Unit 1 High-Temperature Gas-Cooled Reactor, the Shippingport Atomic Power Station, and various Training, Research, and Isotope reactors built by General Atomics (TRIGA reactors). The majority of this SNF is currently in storage at the Idaho Nuclear Technology Center located on the INEEL immediately adjacent to the proposed facility. DOE plans to transfer the SNF to the proposed facility using existing INEEL and DOE procedures. The transfers to the proposed facility would take place completely within the boundaries of the INEEL. Upon arrival at the proposed facility, the SNF would be (1) remotely removed from the containers in which it is currently stored, (2) visually inspected, (3) inventoried, (4) placed into new storage canisters, and (5) placed into interim dry storage.

The DEIS for the proposed Idaho Spent Fuel Facility was prepared by the staff of the NRC and its contractor, Center for Nuclear Waste Regulatory Analyses, in compliance with the National Environmental Policy Act (NEPA), and the NRC's regulations for implementing NEPA (10 CFR part 51). The proposed action involves a decision by NRC of whether to issue a license under the provisions of 10 CFR part 72 that would authorize FWENC to receive, transfer, and store SNF and associated radioactive materials at the proposed facility.

NRC published a Notice of Intent to prepare an EIS for the proposed Idaho Spent Fuel Facility and to conduct a scoping process in the Federal Register on July 26, 2002, (67 FR 48953). The NRC accepted scoping comments through September 16, 2002, and subsequently issued a Scoping Summary Report on December 2, 2002.

The DEIS describes the proposed action and alternatives to the proposed action, including the no-action alternative. The DEIS assesses the impacts of the proposed action and its alternatives on human health, air quality, water resources, waste management, geology, noise, ecology, land use, cultural resources, socioeconomics, accident impacts, and environmental justice. Additionally, the DEIS analyzes and compares the costs and benefits of the proposed action.

Based on the preliminary evaluation in the DEIS, the NRC environmental review staff have concluded that the proposed action will have small effects on the public and existing environment and should be approved. The DEIS is a preliminary analysis of the environmental impacts of the proposed action and its alternatives. The Final EIS and any decision documentation regarding the proposed action will not be issued until public comments on the DEIS have been received and evaluated. Notice of the availability of the Final EIS will be published in the Federal Register.

Dated at Rockville, Maryland, this 19th day of June, 2003.
For the Nuclear Regulatory Commission,
Lawrence E. Kokajko,
Acting Chief, Environmental and Performance Assessment Branch, Division of Waste Management, Office of Nuclear Material Safety and Safeguards.

[FR Doc. 03-16174 Filed 6-25-03; 8:45 am]

BILLING CODE 7590-01-P